DEPARTMENT OF TRANSPORTATION

[Docket No. DOT-OST-2010-0212]

Agency Request for Revision of Previously Approved Information Collections: Uniform Administrative Requirements for Grants and Cooperative Agreements to State and Local Governments and for Grants and Cooperative Agreements With Institutions of Higher Education, Hospitals, and Other Nonprofit Organizations

AGENCY: Office of the Secretary.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register notice with a 60-day comment period soliciting comments on the following information collection was published on September 3, 2010, in the Federal Register (75 FR, page 54215). No comments were received; however, in that notice, the Department incorrectly estimated a total of 3,329 respondents and annual burden of 756,980 hours. The Department is correcting the document as set forth below.

DATES: Written comments must be submitted December 10, 2010.

ADDRESSES: Send comments regarding the burden estimate, including suggestions for reducing the burden, to the Office of Management and Budget, Attention: Desk Officer for the Office of the Secretary of Transportation, 725 17th Street, NW., Washington, DC 20503.

FOR FURTHER INFORMATION CONTACT: Ellen Shields, Associate Director of the Financial Assistance Management Division, M-65, Office of the Senior Procurement Executive, Office of the Secretary, U.S. Department of Transportation, 1200 New Jersey Avenue, SE., Washington, DC 20590, (202) 366-4268.

SUPPLEMENTARY INFORMATION: OMB Control Number: 2105-0520.

Title: Uniform Administrative Requirements For Grants and Cooperative Agreements to State and Local Governments and For Grants and Cooperative Agreements with Institutions of Higher Education, Hospitals, and Other Nonprofit Organizations.

Form Numbers: SF-424, SF-425, SF-270, and SF-271.

Type of Request: Revision of a previously approved collection.

Abstract: The Department of Transportation (DOT) requests approval to combine OMB Control numbers 2105-0520 and 2105-0531 into OMB Control Number 2105-0520. This information collection involves the use of various forms necessary because of management and oversight responsibilities of the agency imposed by OMB Circular 2 CFR 215 (A-110) (Uniform Administrative Requirements for Grants and Agreements with Institutions of Higher Education, Hospitals, and Other Non-Profit Organizations) and OMB Circular A-102 (Uniform Administrative Requirements for Grants and Cooperative Agreements to State and Local Governments). These forms include Application for Federal Assistance (SF-424), Federal Financial Report (SF-425), Request for Advance or Reimbursement (SF-270), and Outlay Report and Request for Reimbursement for Construction Programs (SF-271). The Department has discontinued the use of the Financial Status Report (SF-269 and SF-269A) and Federal Cash Transactions Report (SF-272 and SF-272A). The information contained in these forms have been consolidated into SF-425, which is a new form approved by OMB for Federal-wide use on October 1, 2008 and recently revised on June 28, 2010. According to the Federal Register notice dated August 13, 2008, agencies were to begin using SF-425 “as soon as possible after October 1, 2008, and no later than October 1, 2009, each agency must transition from the SF-269, SF-269A, SF-272, and SF-272A to the SF-425, by requiring recipients to use the FFR for all financial reports submitted after the date it makes the transition. In making the transition, an agency would incorporate the requirement to use the FFR into terms and conditions of new and ongoing grant and cooperative agreement awards, State plans, and/or program regulations that specify financial reporting requirements.” Comments on this notice were received and addressed in a Federal Register notice dated August 13, 2008 (73 FR, 47246). These comments and responses can be found on the OMB Forms Web site at http://www.whitehouse.gov/omb/grants/grants_standard_report_forms.html. The Department is also requesting approval to discontinue OMB Control Number 2105-0531.

Correction:

Respondents: Grant Awardees.

Estimated Number of Respondents: 2,704.

Estimate Frequency: Quarterly.

Estimated Number of Responses: 10,816.

Estimated Total Annual Burden: 189,280 hours.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information.

All comments will also become a matter of public record.

Authority: The Paperwork Reduction Act of 1995; 44 U.S.C. Chapter 35, as amended; and 49 CFR 1:48.

Issued in Washington, DC, on November 3, 2010.
Patricia Lawton,
Departmental Paperwork Reduction Act Clearance Officer, Office of the Chief Information Officer.

[FR Doc. 2010-28361 Filed 11-9-10; 8:45 am]

BILLING CODE 4910-9X-P